DEPARTMENT OF HEALTH AND HUMAN SERVICES

Health Resources and Services Administration

National Advisory Council on Migrant Health; Notice of Meeting

In accordance with section 10(a)(2) of the Federal Advisory Committee Act (Pub. L. 92-463), notice is hereby given of the following meeting:

Name: National Advisory Council on Migrant Health.

Dates and Times: May 14, 2009, 8:30 a.m. to 5 p.m. May 15, 2009, 8:30 a.m. to 5 p.m.

Place: Hilton Palacio del Rio Hotel, 200 South Alamo Street, San Antonio, Texas 78205, Telephone: (210) 222-1400, Fax: (210) 270-0761.

Status: The meeting will be open to the public.

Purpose: The purpose of the meeting is to discuss services and issues related to the health of migrant and seasonal farmworkers and their families and to formulate recommendations for the Secretary of Health and Human Services.

Agenda: The agenda includes an overview of the Council's general business activities. The Council will also hear presentations from experts on farmworker issues, including the status of farmworker health at the local and national levels.

The Council meeting is being held in conjunction with the National Farmworker Health Conference sponsored by the National Association of Community Health Centers, which is being held in San Antonio, Texas, May 12-14, 2009.

Agenda items are subject to change as priorities indicate.

For Further Information Contact: Gladys Cate, Office of Minority and Special Populations, Bureau of Primary Health Care, Health Resources and Services Administration, 5600 Fishers Lane, Maryland 20857; telephone (301) 594-0367.

Dated: March 27, 2009.
Alexandra Huttinger,
Director, Division of Policy Review and Coordination.

[FR Doc. E9-7435 Filed 4-1-09; 8:45 am]

BILLING CODE 4165-15-P